DEPARTMENT OF HOMELAND SECURITY

Federal Emergency Management Agency

[Docket ID: FEMA-2013-0016; OMB No. 1660-NEW]

Agency Information Collection Activities: Submission for OMB Review; Comment Request

AGENCY: Federal Emergency Management Agency, DHS.

ACTION: Notice.

SUMMARY: The Federal Emergency Management Agency (FEMA) will submit the information collection abstracted below to the Office of Management and Budget (OMB) for review and clearance in accordance with the requirements of the Paperwork Reduction Act of 1995. FEMA requests review and approval of this collection of information under the emergency processing procedures. FEMA is requesting that this information collection be approved by April 30, 2013. The approval will authorize FEMA to use the collection through September 30, 2013. FEMA plans to follow this emergency request with a request for a 3-year approval. The request will be processed under OMB's normal clearance procedures. FEMA invites the general public to comment on the proposed collection of information.

DATES: Comments must be submitted on or before May 30, 2013.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION: Under the direction of Executive Order 13254 which directs FEMA's Individual and Community Preparedness Division (ICPD) acts under the authority of Executive Order 13254, “Establishing the USA Freedom Corps.” This Executive Order creates a council composed of Federal executive branch leaders, and directs members of that council to perform a range of functions, to include studying and tracking the progress of public service programs. This collection seeks experiential information from survivors of Hurricane Sandy via a telephone survey and a series of focus groups. This collection of information is necessary to ensure effectiveness and value of awareness and education campaigns, disaster messaging and other associated outreach efforts.

Collection of Information

Title: Post Hurricane Sandy Survivor Research.

Type of Information Collection: New information collection.

Form Titles and Numbers: FEMA Form 008-0-10, Sandy Focus Group Recruit/Screener; FEMA Form 008-0-9, Focus Group Moderator Guide; FEMA Form 008-0-11, In-Depth Case Study/Community Specific (Pulse Survey).

Abstract: FEMA's ICPD will engage in qualitative and quantitative research to investigate the effectiveness of preparedness behaviors before, during and after Hurricane Sandy. This research will inform evaluation of existing public messaging regarding disaster preparedness and response at the individual and household level.

Affected Public: Individuals and Households.

Number of Respondents: 4,470.

Estimated Time per Respondent: Sandy Focus Group Recruit/Screener, 3 minutes; Focus Group Moderator Guide, 1.5 hours; In-Depth Case Study Pulse Survey, 15 minutes.

Estimated Total Annual Burden Hours: 1,128 hours.

Estimated Annualized Burden Hours and Costs
Type of respondent | Form name/form number | Number of respondents | Number of responses per respondent | Total number of responses | Average burden per response (in hours) | Total annual burden (in hours) | Average hourly wage rate | Total annual respondent cost
Individuals or Households | Sandy Focus Group Recruit/Screener/FEMA Form 008-0-10 | 1,260 | 1 | 1,260 | .05 (3 mins.) | 63 | $22.78 | $1,435.14
Individuals or Households | Focus Group Moderator Guide/ FEMA Form 008-0-9 | 210 | 1 | 210 | 1.5 hrs. (90 mins.) | 315 | 22.78 | 7,175.70
Individuals or Households | In-Depth Case Study Pulse Survey/FEMA Form 008-0-11 | 3,000 | 1 | 3,000 | .25 (15 mins.) | 750 | 22.78 | 17,085.00
Total |  | 4,470 |  | 4,470 |  | 1,128 |  | 25,695.84
• Note: The “Avg. Hourly Wage Rate” for each respondent includes a 1.4 multiplier to reflect a fully-loaded wage rate.

Estimated Cost: The estimated annual cost to respondents for the hour burden is $25,695.84. There are no annual costs to respondents operations and maintenance costs for technical services. There is no annual start-up or capital costs. The annual cost to the Federal Government is $563,000.00.

Frequency of Response: On occasion.

Dated: April 22, 2013.
Charlene D. Myrthil,
Director, Records Management Division, Mission Support, Federal Emergency Management Agency, Department of Homeland Security.

[FR Doc. 2013-10129 Filed 4-29-13; 8:45 am]

BILLING CODE 9111-27-P